DEPARTMENT OF ENERGY

Federal Energy Regulatory Commission

[Docket No. PL20-5-000]

Business Continuity of Energy Infrastructure

AGENCY: Federal Energy Regulatory Commission.

ACTION: Policy statement.

SUMMARY: The Commission states that it will expeditiously review and act on requests for relief in response to the national emergency caused by COVID-19, and that it will give its highest priority to processing filings made for the purpose of assuring the business continuity of regulated entities' energy infrastructure during this extraordinary time.

DATES: This policy statement will become applicable April 7, 2020.

FOR FURTHER INFORMATION CONTACT: Caroline Wozniak (Technical Information), Office of Energy Market Regulation, Federal Energy Regulatory Commission, 888 First Street NE, Washington, DC 20426, 202-502-8931, caroline.wozniak@ferc.gov.

Kaleb Lockwood (Legal Information), Office of the General Counsel, Federal Energy Regulatory Commission, 888 First Street NE, Washington, DC 20426, (202) 502-8255, kaleb.lockwood@ferc.gov.

SUPPLEMENTARY INFORMATION: 1. On March 13, 2020, the President issued a proclamation declaring a National Emergency concerning COVID-19. Entities regulated by the Commission have had to take unprecedented actions in response to the emergency conditions, including directing staff to work remotely for an extended period, which may disrupt, complicate, or otherwise change their normal course of business operations. In light of the President's proclamation, the Commission believes it is appropriate to provide regulatory guidance on certain energy infrastructure, market, reliability and security matters. We understand that regulated entities may need to implement new procedures, update and/or suspend existing procedures, and take other measures to safeguard the business continuity of their systems. We are aware that such regulated entities may have questions about their ability to meet regulatory requirements and/or recover the expenses necessary if they take steps to safeguard the business continuity of their systems during the national emergency. We want to assure regulated entities that we will expeditiously review and act on requests for relief, including but not limited to, requests for cost recovery necessary to assure business continuity of the regulated entities' energy infrastructure in response to the national emergency.

2. We will give our highest priority to processing filings made for the purpose of assuring the business continuity of regulated entities' energy infrastructure during this extraordinary time. We view the reliability and security of our Nation's vital energy infrastructure as critical to meeting the energy requirements essential to the American people.

3. The Commission fully supports the continued cooperation of the energy industry, customers, and Federal, State, and local government partners to provide any additional safeguards necessary to protect the business continuity of the Nation's vital energy infrastructure.

By the Commission.
Issued: April 2, 2020.
Nathaniel J. Davis, Sr.,
Deputy Secretary.

[FR Doc. 2020-07301 Filed 4-2-20; 5:15 pm]

BILLING CODE 6717-01-P